DEPARTMENT OF VETERANS AFFAIRS

Advisory Committee on CARES Business Plan Studies; Notice of Meeting

The Department of Veterans Affairs (VA) gives notice under the Public Law 92-463 (Federal Advisory Committee Act) that the Advisory Committee on CARES Business Plan Studies will meet on Friday, September 8, 2006, from 9 a.m. until 3 p.m., in the Dining Room of the Nursing Home Care Unit, Building 90, VA Palo Alto Health Care System, 4951 Arroyo Road, Livermore, CA. The meeting is open to the public.

The purpose of the Committee is to provide advice to the Secretary of Veterans Affairs on proposed business plans at those VA facility sites identified in May 2004 as requiring further study by the Capital Asset Realignment for Enhanced Services (CARES) Decision document.

The objectives of the Local Advisory Panel meeting are to communicate the Secretary's decision on the specific options to be evaluated and the timeframe for the completion of the study. Additional presentations will focus on the VA-selected contractor's methodology and tools to evaluate the remaining options. The agenda will also accommodate public commentary on implementation issues associated with each option.

Interested persons may attend and present oral or written statements to the Committee. For additional information regarding the meeting, please contact Mr. Jay Halpern, Designated Federal Officer, (00CARES), 810 Vermont Avenue, NW., Washington, DC 20024, by phone at (202) 273-5994, or by e-mail at jay.halpern@hq.med.va.gov.

Dated: August 11, 2006.
By Direction of the Secretary.
E. Philip Riggin,
Committee Management Officer.

[FR Doc. 06-7075 Filed 8-21-06; 8:45 am]

BILLING CODE 8320-01-M